DEPARTMENT OF COMMERCE

Bureau of the Census

Request for Nominations of Members To Serve on the Census Bureau National Advisory Committee on Racial, Ethnic, and Other Populations

AGENCY: Bureau of the Census, Commerce.

ACTION: Notice of request for nominations.

SUMMARY: The Bureau of the Census (Census Bureau) is requesting nominations of individuals and organizations to serve on the Census Bureau National Advisory Committee on Racial, Ethnic, and Other Populations. The Census Bureau will consider nominations received in response to this notice, as well as from other sources. The SUPPLEMENTARY INFORMATION section of this notice provides committee and membership criteria.

DATES: Please submit nominations by April 20, 2012.

ADDRESSES: Please submit nominations to Jeri Green, Chief, Office of External Engagement, U.S. Census Bureau, Room 8H182, 4600 Silver Hill Road, Washington, DC 20233. Nominations also may be submitted via fax at 301-763-8609, or by email to jeri.green@census.gov.

FOR FURTHER INFORMATION CONTACT: Jeri Green, Chief, Office of External Engagement, U.S. Census Bureau, Room 8H182, 4600 Silver Hill Road, Washington, DC 20233, telephone (301) 763-2070.

SUPPLEMENTARY INFORMATION: The Census Bureau National Advisory Committee on Racial, Ethnic, and Other Populations (“Advisory Committee”) was established in accordance with the Federal Advisory Committee Act (Title 5, United States Code (U.S.C.), Appendix 2). The following provides information about the committee, membership, and the nomination process.

Objectives and Duties

1. The Advisory Committee advises the Director of the U.S. Census Bureau on the full range of economic, housing, demographic, socioeconomic, linguistic, technological, methodological, geographic, behavioral, and operational variables affecting the cost, accuracy, and implementation of Census Bureau programs and surveys, including the decennial census.

2. The Advisory Committee advises the Census Bureau on the identification of new strategies for improved census operations, survey and data collection methods, including identifying cost efficient ways to increase census participation.

3. The Advisory Committee addresses census policies, research and methodology, tests, operations, communications/messaging, and other activities to ascertain needs and best practices to improve censuses, surveys, operations, and programs. This expertise is necessary to ensure that the Census Bureau continues to provide relevant and timely statistics used by federal, state, and local governments as well as business and industry in an increasingly technologically-oriented society.

4. The Advisory Committee functions solely as an advisory body under the Federal Advisory Committee Act.

5. The Advisory Committee reports to the Director.

Membership

1. The Advisory Committee will consist of up to 32 members who serve at the discretion of the Director.

2. Generally, members will serve for a three-year term. All members will be reevaluated at the conclusion of each term with the prospect of renewal, pending advisory committee needs. Active attendance and participation in meetings and activities (e.g., conference calls and assignments) will be factors considered when determining term renewal or membership continuance. Generally, members may be appointed for a second three-year term at the discretion of the Director.

3. Members will serve as either “Special Government Employees” (SGEs) or “Representatives.” SGEs will be subject to the ethical standards applicable to SGEs. Members will be individually advised of the capacity in which they will serve through their appointment letters.

4. Members are selected in accordance with applicable Department of Commerce guidelines. The Advisory Committee aims to have a balanced representation, considering such factors as race, ethnicity, geography, gender, technical expertise, community involvement, and knowledge of census procedures and activities. The Advisory Committee aims to include members from diverse backgrounds, including state and local governments, academia, research, national and community-based organizations, and the private sector.

5. No employee of the federal government can serve as a member of the Advisory Committee. Meeting attendance and active participation in the activities of the Advisory Committee are essential for sustained Advisory Committee membership as well as submission of required annual financial disclosure statements by those who serve as Special Government Employees.

6. Membership is open to persons who are not seated on other Census Bureau stakeholder entities (i.e., State Data Centers, Census Information Centers, Federal-State Cooperative on Populations Estimates program, other Census Advisory Committees, etc.).

Miscellaneous

1. Members of the Advisory Committee serve without compensation, but receive reimbursement for committee-related travel and lodging expenses.

2. The Advisory Committee meets at least twice a year, budget permitting, but additional meetings may be held as deemed necessary by the Census Director or Designated Federal Official. All Advisory Committee meetings are open to the public in accordance with the Federal Advisory Committee Act.

Nomination Information

1. Nominations are requested as described above.

2. Nominees must have expertise and knowledge of the cultural patterns and issues and/or data needs of minority populations and sub-culture groups, such as hidden households, rural populations, students and youth, etc. Such knowledge and expertise are needed to provide advice and recommendations to the Census Bureau on how best to enumerate minority populations and sub-culture groups.

3. Individuals, groups, and/or organizations may submit nominations on behalf of individual candidates. A summary of the candidate's qualifications (resumé or curriculum vitae) must be included along with the nomination letter. Nominees must be able to actively participate in the tasks of the Advisory Committee, including, but not limited to, regular meeting attendance, committee meeting discussant responsibilities, review of materials, as well as participation in conference calls, webinars, working groups, and/or special committee activities.

4. The Department of Commerce is committed to equal opportunity in the workplace and seeks diverse Advisory Committee membership.

Dated: March 13, 2012.
Robert M. Groves,
Director, Bureau of the Census.

[FR Doc. 2012-6798 Filed 3-20-12; 8:45 am]

BILLING CODE 3510-07-P